DEPARTMENT OF ENERGY

Federal Energy Regulatory Commission

Combined Notice of Filings #1

Take notice that the Commission received the following electric rate filings:

Docket Numbers: ER21-1790-005.

Applicants: California Independent System Operator Corporation.

Description: Compliance filing: 2021-08-04 Supplemental to Pending Compliance Filing—LEW to be effective 12/31/9998.

Filed Date: 8/4/21.

Accession Number: 20210804-5089.

Comments Due: 5 p.m. ET 8/25/21.

Docket Numbers: ER21-2087-001.

Applicants: Southwest Power Pool, Inc.

Description: Tariff Amendment: The Empire District Electric Company Amended Formula Rate to be effective 5/14/2021.

Filed Date: 8/4/21.

Accession Number: 20210804-5096.

Comments Due: 5 p.m. ET 8/25/21.

Docket Numbers: ER21-2138-001.

Applicants: Southwest Power Pool, Inc.

Description: Tariff Amendment: 1518R21 Arkansas Electric Cooperative Corp NITSA NOA Amended to be effective 8/1/2021.

Filed Date: 8/5/21.

Accession Number: 20210805-5114.

Comments Due: 5 p.m. ET 8/26/21.

Docket Numbers: ER21-2230-001.

Applicants: Southwest Power Pool, Inc.

Description: Tariff Amendment: 2415R15 Kansas Municipal Energy Agency NITSA and NOA Amended to be effective 9/1/2021.

Filed Date: 8/5/21.

Accession Number: 20210805-5052.

Comments Due: 5 p.m. ET 8/26/21.

Docket Numbers: ER21-2611-000.

Applicants: Wisconsin Public Service Corporation.

Description: § 205(d) Rate Filing: Filing of Revised LBAAOCA with WPL to be effective 10/4/2021.

Filed Date: 8/4/21.

Accession Number: 20210804-5097.

Comments Due: 5 p.m. ET 8/25/21.

Docket Numbers: ER21-2612-000.

Applicants: Niagara Mohawk Power Corporation, New York Independent System Operator, Inc.

Description: § 205(d) Rate Filing: Joint Section 205 SGIA among NYISO, NMPC and SunEast Hilltop Solar SA No. 2638 to be effective 7/28/2021.

Filed Date: 8/5/21.

Accession Number: 20210805-5082.

Comments Due: 5 p.m. ET 8/26/21.

Docket Numbers: ER21-2613-000.

Applicants: PJM Interconnection, L.L.C., Trans-Allegheny Interstate Line Company.

Description: § 205(d) Rate Filing: TrAILCo submits One ECSA, SA No. 5954 to be effective 10/5/2021.

Filed Date: 8/5/21.

Accession Number: 20210805-5096.

Comments Due: 5 p.m. ET 8/26/21.

Docket Numbers: ER21-2614-000.

Applicants: Mid-Atlantic Interstate Transmission, LLC, PJM Interconnection, L.L.C.

Description: § 205(d) Rate Filing: MAIT submits One ECSA, SA No. 5953 to be effective 10/5/2021.

Filed Date: 8/5/21.

Accession Number: 20210805-5107.

Comments Due: 5 p.m. ET 8/26/21.

Docket Numbers: ER21-2615-000.

Applicants: American Transmission Systems, Incorporated, PJM Interconnection, L.L.C.

Description: § 205(d) Rate Filing: ATSI submits Four ECSAs, SA Nos. 6034-6037 to be effective 10/5/2021.

Filed Date: 8/5/21.

Accession Number: 20210805-5109.

Comments Due: 5 p.m. ET 8/26/21.

Docket Numbers: ER21-2616-000.

Applicants: El Paso Electric Company.

Description: § 205(d) Rate Filing: Rate Schedule No. 361 Cost Reimbursement Agreement with SunZia to be effective 7/19/2021.

Filed Date: 8/5/21.

Accession Number: 20210805-5112.

Comments Due: 5 p.m. ET 8/26/21.

Docket Numbers: ER21-2617-000.

Applicants: PJM Interconnection, L.L.C.

Description: § 205(d) Rate Filing: Original IISA, Service Agreement No. 6124; Queue No. AD1-101 to be effective 7/6/2021.

Filed Date: 8/5/21.

Accession Number: 20210805-5113.

Comments Due: 5 p.m. ET 8/26/21.

Docket Numbers: ER21-2618-000.

Applicants: PJM Interconnection, L.L.C.

Description: § 205(d) Rate Filing: Amendment to WMPA, Service Agreement No. 5522; Queue No. AE1-075 to be effective 10/14/2019.

Filed Date: 8/5/21.

Accession Number: 20210805-5116.

Comments Due: 5 p.m. ET 8/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2021.
Debbie-Anne A. Reese,
Deputy Secretary.

[FR Doc. 2021-17143 Filed 8-10-21; 8:45 am]

BILLING CODE 6717-01-P